DEPARTMENT OF COMMERCE

National Oceanic and Atmospheric Administration

50 CFR Parts 223, 224, and 226

[Docket No. 190925-0039 and 190829-0020]

RIN 0648-BI06, 0648-BH95

Endangered and Threatened Wildlife and Plants: Proposed Rule To Designate Critical Habitat for the Central America, Mexico, and Western North Pacific Distinct Population Segments of Humpback Whales and Proposed Rule To Revise Critical Habitat for the Southern Resident Killer Whale Distinct Population Segment, Public Hearings

AGENCY: National Marine Fisheries Service (NMFS), National Oceanic and Atmospheric Administration (NOAA), Commerce.

ACTION: Notification of public hearings.

SUMMARY: We, NMFS, will hold five public hearings related to our proposed rule to designate critical habitat for the Western North Pacific distinct population segment (DPS), the Central America DPS, and the Mexico DPS of humpback whales (Megaptera novaeangliae) under the Endangered Species Act (ESA). We will also hold three public hearings related to our proposed rule to revise the critical habitat designation for the Southern Resident killer whale DPS (Orcinus orca) under the ESA. Three of the public hearings will be joint hearings that address both of these proposed rules.

DATES: Public hearings will be held from 4 to 7 p.m. (local time) on the following dates: November 4, 2019, in Santa Cruz, California; November 5, 2019, in Newport, Oregon; November 6, 2019, in Seattle, Washington; November 7, 2019, in Juneau, Alaska; and December 3, 2019, in Anchorage, Alaska.

ADDRESSES: The November 4th hearing will be held in conference Room 188 at the NMFS Southwest Fisheries Science Center, Santa Cruz Laboratory on the University of California Santa Cruz's Coastal Science Campus, 110 McAllister Way, Santa Cruz, CA 95060.

The November 5th hearing will be held in the Hennings Auditorium at the Hatfield Marine Science Center Visitor Center, 2030 SE Marine Science Drive, Newport, OR 97365.

The November 6th hearing will be held in the Alder Auditorium at the University of Washington, 1310 NE 40th Street, Seattle, WA 98105. (The auditorium entrance is located on NE 40th Street between Brooklyn Avenue NE and University Way NE.)

The November 7th hearing will be held in the Egan Lecture Hall (Room 112), University of Alaska Southeast, 11066 Auke Lake Way, Juneau, Alaska 99801.

The December 3rd hearing will be held in the Wilda Marston Theater in Z.J. Loussac Public Library, 3600 Denali St., Anchorage, AK 99503.

FOR FURTHER INFORMATION CONTACT: Lisa Manning, NMFS, Office of Protected Resources 301-427-8466; or Nancy Young, NMFS West Coast Region, 206-526-4297.

SUPPLEMENTARY INFORMATION:

Background

On September 19, 2019, we published a proposed rule to revise existing critical habitat for endangered Southern Resident killer whales (84 FR 49214) under the ESA. This rule proposes to revise the critical habitat by designating six new marine areas along the U.S. West Coast. The specific new areas proposed for designation extend along the U.S. West Coast from the U.S. international border with Canada, south to Point Sur, California. Based on consideration of national security impacts, we are proposing to exclude from the designation one area off the coast of Washington. We are soliciting public comment on this proposed rule through December 18, 2019.

On October 9, 2019, we published a proposed rule to designate critical habitat for the endangered Western North Pacific DPS, the endangered Central America DPS, and the threatened Mexico DPS of humpback whales under the ESA (84 FR 54354). Areas proposed as critical habitat include specific marine areas located off the coasts of California, Oregon, Washington, and Alaska. Based on consideration of national security and economic impacts, we are also proposing to exclude multiple areas from the designation for each DPS. We are soliciting comments on the proposed humpback whale critical habitat designations through December 9, 2019.

Public Hearings

Each of the public hearings will be conducted in the same manner. The hearings will begin with a brief presentation by NMFS that gives an overview of critical habitat under the ESA and a summary of the relevant proposed critical habitat designation(s). Following the presentation, members of the public will have the opportunity to provide oral comments on the record regarding the proposed designations. Members of the public will also have the opportunity to submit written comments at the hearing. Written comments may also be submitted at any time during the relevant public comment period via the Federal e-Rulemaking Portal. To do the latter, go to www.regulations.gov; and for Southern Resident killer whale critical habitat search on the docket ID “NOAA-NMFS-2014-0041”; for humpback whale critical habitat search on docket ID “NOAA-NMFS-2019-0066”; click the “Comment Now!” icon; then complete the required fields and enter or attach your comments. Note that all comments received are a part of the public record and will generally be posted for public viewing on www.regulations.gov without change. All personal identifying information (e.g., name, address, etc.), confidential business information, or otherwise sensitive information submitted voluntarily by the commenter will be publicly accessible. NMFS will accept anonymous comments (enter “N/A” in the required fields if you wish to remain anonymous). Attachments to electronic comments will be accepted in Microsoft Word, Excel, or Adobe PDF file formats only.

Reasonable Accommodations

People needing accommodations so that they may attend and participate at the public hearings should submit a request for reasonable accommodations as soon as possible, and no later than 7 business days prior to the hearing date, by contacting Lisa Manning or Nancy Young (see FOR FURTHER INFORMATION CONTACT).

Authority: 16 U.S.C. 1531 et seq.

Dated: October 9, 2019.
Samuel D. Rauch III,
Deputy Assistant Administrator for Regulatory Programs, National Marine Fisheries Service.

[FR Doc. 2019-22445 Filed 10-16-19; 8:45 am]

BILLING CODE 3510-22-P